ENVIRONMENTAL PROTECTION AGENCY

40 CFR Part 52

[TX-134-4-7503; FRL-7010-8]

Proposed Approval and Promulgation of Implementation Plans; Texas; Non-Road Large Spark-Ignition Engines; Agreements With Airport Operators and Airlines Regarding Control of Pollution From Ground Support Equipment for the Houston/Galveston Ozone Nonattainment Area (HGA)

AGENCY: Environmental Protection Agency (EPA).

ACTION: Proposed rule.

SUMMARY: The EPA proposes to approve revisions to the Texas State Implementation Plan. This rule making covers two separate actions. We are proposing approval of:

A rule requiring that non-road large spark-ignition engines of 25 horsepower (hp) or larger in all counties of the State of Texas conform to requirements identical to Title 13 of the California Code of Regulations, Chapter 9; and

Agreements requiring owners and operators at major airports in the HGA to bring about oxides of nitrogen (NOX) emission reductions for sources under their control.

This new rule and the agreements will contribute to attainment of the ozone standard in the HGA. The EPA is approving these revisions to the Texas SIP to regulate emissions of oxides of nitrogen (NOX) in accordance with the requirements of the Federal Clean Air Act (the Act).

DATES: Written comments must be received on or before August 10, 2001.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733. Texas Natural Resource Conservation Commission, Office of Air Quality, 12124 Park 35 Circle, Austin, Texas 78753.

FOR FURTHER INFORMATION CONTACT: Diana Hinds, Air Planning Section (6PD-L), EPA Region 6, 1445 Ross Avenue, Dallas, Texas 75202-2733, telephone (214) 665-7561.

SUPPLEMENTARY INFORMATION: Throughout this document “we,” “us,” and “our” refers to EPA.

This document concerns control of air pollution of NOX for non-road equipment sources in the HGA area and the control measures for attainment demonstration purposes. For further information, please see the Technical Support Document (TSD) prepared for this action.

What Action Are We Taking?

On December 22, 2000, the Governor of Texas submitted to EPA revisions to the 30 TAC, Chapter 114, “Control of Air Pollution From Motor Vehicles,” as a revision to the SIP. That submission included requirements that non-road large spark-ignition engines of 25 horsepower (hp) or larger conform to Title 13 of the California Code of Regulations, Chapter 9; and NOX reductions from airport Ground Support Equipment (GSE).

Also on December 22, 2000, the Texas Natural Resource Conservation Commission (TNRCC) withdrew its adopted rule revising 30 TAC Chapter 114, Subchapter I, Division 7 (Houston/Galveston GSE), and substituted agreements with airlines and airport operators in the HGA for equivalent NOX reductions.

These new rules will contribute to attainment of the ozone standard in the HGA area. The EPA is proposing to approve these revisions to the Texas SIP to regulate emissions of NOX in accordance with the requirements of the Federal Clean Air Act (the Act).

For more information on the SIP revision, please refer to our TSD.

What Are the Requirements of the December 22, 2000, Texas SIP for non-Road Large Spark-Ignition (LSI) Engines?

Non-road, LSI engines are primarily used to power industrial equipment such as forklifts, generators, pumps, compressors, aerial lifts, sweepers, and large lawn tractors. The engines are similar to automotive engines and can use similar automotive technology, such as closed-loop engine control and three-way catalysts, to reduce emissions.

Texas developed a non-road LSI engine strategy which establishes emission requirements for non-road, LSI engines 25 hp and larger for model year 2004 and subsequent model-year engines, and all equipment and vehicles that use such engines, by requiring non-road LSI engines in all counties in the state to meet emission limits equivalent to, and certified in, a manner identical to 13 California Code of Regulations, Chapter 9.

Although emissions from non-road, LSI engines have not yet been regulated by EPA under section 209(e)(2) of the Act, the California Air Resources Board (CARB) has adopted exhaust emission standards for these engines (EPA proposed rules at 65 FR 76797 on December 7, 2000). Section 209(e)(2)(A) of the Act authorizes EPA to approve California regulation of non-road engines other than those used in locomotives, construction and farm equipment. Section 209(e)(2)(B) of the Act allows another state to adopt requirements for non-road engines if such regulations are identical to California's requirements. EPA has promulgated regulations, codified at 40 CFR section 85.1606, setting forth the criteria for adoption of California regulations regarding non-road vehicles and non-road engines. We are proposing that Texas has met the statutory and regulatory requirements for adoption of the California LSI program. All counties in the State are affected by this rule.

What Are the Requirements of the December 22, 2000, Texas SIP for Reduction of Oxides of Nitrogen From Airport Ground-Support Equipment?

On August 25, 2000, Texas proposed rules that required reductions of NOX emissions of up to 90% of the 1996 contributions attributable to airport GSE from the airports which have the most air carrier operations in the eight county ozone nonattainment area. Texas withdrew the rule (see 25 TexReg 12639; December 22, 2000), after entering into enforceable agreements with airport owners and operators that brought about equivalent emission reductions. The state signed an Agreed Order with Continental Airlines for its operations at Houston's George Bush Intercontinental Airport on October 18, 2000, and signed a similar Agreed Order with Southwest Airlines for its operations at William Hobby Airport on December 6, 2000. The Agreements made enforceable specific local emission reductions of NOX from sources under the airlines' control. On October 18, 2000, Texas approved a Memorandum of Agreement with the City of Houston to bring about additional reductions from operations in the Houston Airport System. The sum of these agreed reductions is equal to those reductions imposed in the withdrawn Texas rulemaking package.

The Agreements with Southwest and Continental airlines require that NOX emissions from mobile or stationary sources under the airlines' control be reduced by an amount equal to 25% of the NOX emitted from its 1996 GSE fleet by December 31, 2003; 50% by December 31, 2004; and 75% by December 31, 2005. Further, Reasonably Available Control Considering Costs (RACCC), or alternative-fuel and/or electric-powered equipment, will be installed on GSE equipment added to the fleet after 1996; best available technology (BAT) will be utilized for GSE added to the fleet after 2004; and the airlines will assist the State in demonstrating that 75% NOX reductions, based on emission levels of the 1996 GSE fleet, have been achieved. Plans for the implementation of the NOX reduction measures are due to the state by May 1, 2002.

The City of Houston's Memorandum of Agreement states that the Houston Airport System will provide 15% NOX reductions in addition to the 75% NOX reductions (based on 1996 GSE emission levels) agreed to by Southwest and Continental airlines. The Houston Airport System includes George Bush Intercontinental Airport/Houston, William P. Hobby Airport, Ellington Field, and any other future facility acquired by Houston. By December 31, 2004, Houston agrees to have implemented strategies and achieved agreed reductions. Strategies include consolidation of rental car facilities and common bussing, consolidation of employee parking lot and busses, cleaner busses for the City economy lot, a pilot program for fuel cell technology, and infrastructure support for voluntary reductions of GSE emissions by various operators in the Houston Airport System. Alternative strategies may be implemented to bring about, or count for, the agreed reductions. A plan to achieve the agreed reductions is due to the state by May 1, 2002.

Texas believes that the NOX reductions claimed in the HGA Post-99 Rate-of-Progress/Attainment SIP will be achieved through these Agreements as alternate but equally enforceable mechanisms. These measures will contribute to the attainment and maintenance of the one-hour ozone standard in the HGA.

For additional information concerning these rule revisions, please refer to our TSD.

What Areas in Texas Will These Actions Affect?

The Non-Road LSI rule affects all Texas counties. The agreements concerning NOX reductions from GSE affect airports in the HGA area.

Proposed Action

We are proposing approval of two rules: Requirements for Non-Road Large Spark-Ignition Engines, and specified NOX reduction agreements with airlines and airport operators in the Houston-Galveston ozone nonattainment area.

Administrative Requirements

Under Executive Order 12866 (58 FR 51735, October 4, 1993), this proposed action is not a “significant regulatory action” and therefore is not subject to review by the Office of Management and Budget. This proposed action merely approves state law as meeting federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

List of Subjects in 40 CFR Part 52

Environmental protection, Air pollution control, Hydrocarbons, Intergovernmental relations, Motor vehicle pollution, Nitrogen oxides, Ozone, Reporting and record keeping.

Authority: 42 U.S.C. 7401 et seq.

Dated: June 26, 2001.
Jerry Clifford,
Deputy Regional Administrator, Region 6.

[FR Doc. 01-17336 Filed 7-10-01; 8:45 am]

BILLING CODE 6560-50-P